DEPARTMENT OF AGRICULTURE

Natural Resources Conservation Service

Notice of Availability of a Finding of No Significant Impact (FONSI) for the Kaycee Flood Protection Project, Middle Fork Powder River Watershed, Johnson County, Wyoming

AGENCY: Natural Resources Conservation Service (NRCS), USDA.

ACTION: Notice of availability of a Finding of No Significant Impact for the Kaycee Flood Protection Project, Middle Fork Powder River Watershed, Johnson County, Wyoming.

SUMMARY: Pursuant to Section 102(2)(c) of the National Environmental Policy Act of 1969; Public Law 91-190, as amended (42 U.S.C. 4321, et seq.), the Council on Environmental Quality Regulations (40 CFR Part 1500); and the Natural Resources Conservation Service Regulations (7 CFR Part 650); the Natural Resources Conservation Service, U.S. Department of Agriculture, gives notice that an Environmental Impact Statement is not being prepared for the Kaycee Flood Protection Project, Middle Fork Powder River Watershed, Johnson County, Wyoming.

FOR FURTHER INFORMATION CONTACT: J. Xavier Montoya, State Conservationist, Natural Resources Conservation Service, 100 East B Street, Room 3124, PO Box 33124, Casper, Wyoming 82602-5011, telephone (307) 233-6750.

SUPPLEMENTARY INFORMATION: The Environmental Assessment (EA) of this federally assisted action indicates that the project will not cause significant local, regional, or national impacts on the human environment. As a result of these findings, J. Xavier Montoya, State Conservationist, has determined that the preparation and review of an Environmental Impact Statement are not needed for this project.

The project purpose is flood control. The need for the recommended plan is for the protection of life and property by reducing the threat of future flooding to Kaycee's residential, business, and community structures up to a 100-year storm frequency event on the Middle Fork Powder River, Johnson County, Wyoming. The recommended plan is to construct flood control dikes, a flood wall, and strengthen some existing rock rip-rap along the north side, and dikes and grade work on the south side of the Middle Fork Powder River through the town of Kaycee, Wyoming.

The Notice of a Finding of No Significant Impact has been forwarded to the Environmental Protection Agency and to various federal, state, county, and local agencies, and interested parties. A limited number of copies of the FONSI are available to fill single copy requests at the above address. Basic data developed during the assessment are on file and may be reviewed by contacting J. Xavier Montoya.

No administrative action on implementation of the proposal will be taken until 30 days after the date of this publication in the Federal Register.

Dated: February 11, 2008.
Jay T. Mar,
Acting State Conservationist.

(This activity is listed in the Catalog of Federal Domestic Assistance under NO. 10.904, Watershed Protection and Flood Prevention, and is subject to the provisions of Executive Order 12372, which requires intergovernmental consultation with state and local officials.)

Finding of No Significant Impact for Kaycee Flood Protection Project, Middle Fork Powder River Watershed, Johnson, County, Wyoming

Introduction

The Kaycee Flood Protection Project, Middle Fork Powder River Watershed, is a federally assisted action authorized for planning under Public Law 83-566, the Watershed Protection and Flood Prevention Act. An Environmental Assessment (EA) was undertaken in conjunction with the development of the watershed project plan. This assessment was conducted in consultation with federal, state, county, and local agencies, including section 7(a)(2) of the Endangered Species Act of 1973, as amended (50 CFR 402.13) consultation, as well as with interested organizations and individuals. Data developed during the assessment is available for public review at the following location:

U.S. Department of Agriculture, Natural Resources Conservation Service, 100 East B Street, Room 3124, P.O. Box 33124, Casper, Wyoming 82602-5011.

Recommended Action

The recommended action, Alternative 2—Dikes/Flood Wall/Relocation, will provide safety to the residents of Kaycee and protect the residential, business, and community structures from flooding of a 100-year storm frequency event. The recommended plan is to construct flood control dikes and a flood wall along the north side, and dikes and grade work on the south side of the Middle Fork Powder River through the town of Kaycee, Wyoming. There will be one property buyout and eleven structures relocated along the river to allow for the construction of the dike locations. The area between the dikes will become the 100-year floodplain. The proposed dikes would be constructed adjacent to the stream channel and will not affect wetlands adjacent to the stream in the project area or downstream outside of the project area.

Effect of Recommended Action

The recommended action will improve human health and safety and maintain wildlife habitat. The affected environment of this project is the community of Kaycee and the area within and downstream of Kaycee that is impacted under the 100-year floodplain. Water quality would remain unchanged if the recommended plan is implemented. Sediment from upstream will continue to flow through the project area, with no effect to the current sediment loads. Downstream effects will not be changed from existing conditions.

The recommended action will have little or no effect on wetlands. Small areas of wetlands adjacent to the channel would not be impacted by the action of the recommended plan. There are 16.2 acres of wetlands, of which 10.0 acres are water. The remaining 6.2 acres of wetlands are 0.041 percent of the project area.

A file search of the State Historic Preservation Office (SHPO) records was conducted for the project area. Three sections showed known sites, eligibility unknown, or noncontributing segment. Most of the sites reported are connected with the Bozeman Trail. As there are very few segments of the Bozeman Trail that are identifiable, any trace or records found of the trail will require an evaluation by either the NRCS and/or the U.S. Army Corps of Engineers (COE) archeologists. The NRCS State Archeologist conducted a reconnaissance survey of the proposed dike locations for possible cultural resources. No sites were identified within the town of Kaycee boundaries. The survey and file search concludes that no significant adverse impacts will occur to cultural resources in the project area should the recommended plan be implemented. However, construction of the dikes and flood wall do have the potential to disrupt possible individual sites. Therefore, caution shall be exercised in planning and installing the recommended plan to avoid serious disruption of areas having potential as individual cultural sites. NRCS cultural resource procedures, as described in the NRCS Northern Plains Region procedures, will be followed when ground disturbances are planned.

Significant cultural resources identified during implementation will be avoided or otherwise preserved in place to the fullest practical extent. If significant cultural resources cannot be avoided or preserved, pertinent information will be recovered before construction. If there is a significant cultural resource discovery during construction, appropriate notice will be made by NRCS to the State Historic Preservation Officer. Consultation and coordination have been, and will continue to be, used to ensure the provisions of Section 106 of Public Law 89-665 have been met and to include provisions of Public Law 89-523, as amended by Public Law 93-291. NRCS will take necessary action to be in compliance with National Environmental Policy Act (NEPA) protection rules and will follow the procedures in the NRCS General Manual, section 190 and 420, respectively.

No wilderness areas are in the watershed.

There are no known resident threatened or endangered animals within the project area. This determination was arrived at with section 7(a)(2) of the Endangered Species Act of 1973, as amended (50 CFR 402.13) consultation with the U.S. Fish and Wildlife Service. The recommended action will increase vegetative cover suitable for wildlife and reduce noxious and invasive Russian olive. Fish habitat will not be affected. The recommended action will not disproportionately affect any protected groups.

No significant adverse environmental impacts will result from installation of the recommended action.

Alternatives

All alternatives brought forward through the assessment process were analyzed for four criteria: Completeness, effectiveness, efficiency, and acceptability and against the following five factors: Satisfaction of purpose and needs statement, relative costs, technological feasibility, logistics, and environmental consequences. Alternatives that failed to meet the criteria were eliminated from further study.

The No Action Alternative and Alternative 2-Dikes/Flood Wall/Relocation were evaluated and studied in detail as presented in the EA. The recommended action meets the four criteria and five factors listed above and is the most practical means of protecting the citizens of the town of Kaycee, Wyoming.

Consultation—Public participation

A Letter of Request was received on November 13, 2002, from the Project Sponsors for the development of a watershed planning effort to construct flood protection under the authority of the Watershed Protection and Flood Prevention Act, Public Law (Pub. L.) 83-566, as amended (126 U.S.C. 10011008).

In August 2004, the Wyoming Board of Agriculture reviewed the Public Law 83-566 Application for Federal Assistance, ranked the project as a high priority, and recommended the project for planning assistance.

Through a collaborative effort the NRCS and the COE completed the Flood Damage Reduction Preliminary Investigation Report (PIR) in December 2004.

Scoping meetings were held in March 2005 and March 2006 and interdisciplinary efforts were used in the scoping process. Several federal, state, county, and local agencies were involved in part, or all, of the scoping and planning process.

Specific consultation was conducted with the State Historic Preservation Officer concerning cultural resources in the project area of the watershed.

The draft Watershed Project Plan—EA was distributed or made available to all participating and interested agencies, groups, and individuals for review and comment from November 5 to December 20, 2007. On December 6, 2007, the Sponsors held a public meeting to identify concerns of the local citizens regarding the draft Watershed Project Plan—EA.

Agency consultation and public participation to date have shown no unresolved conflicts with the implementation of the selected plan.

Conclusion

The EA summarized above indicates that this federal action will not cause significant local, regional, or national impacts on the environment. Therefore, based on the above findings, I have determined that an Environmental Impact Statement for the Kaycee Flood Protection Project, Middle Fork Powder River Watershed, Johnson County, Wyoming, is not required.

Additional Information or questions can be directed to:

J. Xavier Montoya, State Conservationist, USDA—Natural Resources Conservation Service, 100 East B Street, Room 3124, P.O. Box 33124, Casper, WY 82602-5011, Phone: 307-233-6750, E-mail: xavier.montoya@wy.usda.gov.

Dated: February 11, 2008.
Jay T. Mar,
Acting State Conservationist.

[FR Doc. E8-3296 Filed 2-21-08; 8:45 am]

BILLING CODE 3410-16-P